DEPARTMENT OF STATE

[Public Notice 11394]

U.S. Department of State Advisory Committee on Private International Law: Notice of Annual Meeting

The Department of State's Advisory Committee on Private International Law (ACPIL) will hold its annual meeting virtually on Tuesday, May 25, 2021, via WebEx. The program is scheduled to run from 12:30 p.m. to 5:00 p.m.

During the meeting, we will provide updates on key projects at the United Nations Commission on International Trade Law (UNCITRAL), the International Institute for the Unification of Private Law (Unidroit), and The Hague Conference on Private International Law (HCCH) and discuss possible U.S. private international law treaty priorities. We will also discuss the HCCH project on direct jurisdiction and parallel proceedings as well as current and proposed work, including by UNCITRAL and Unidroit, relating to the digital economy. If time allows other topics of interest could be discussed.

Members of the public may attend this virtual session and will be permitted to participate in the question and answer discussion period following the formal ACPIL presentation on each agenda topic in accordance with the Chair's instructions. Members of the public may also submit a brief statement (less than three pages) or comments to the committee in writing for inclusion in the public minutes of the meeting to pil@state.gov. Virtual attendance is limited to 100 persons, so members of the public that wish to attend this session must provide their name, contact information, and affiliation to pil@state.gov, not later than May 19, 2021. When you register, please indicate whether you require captioning. The WebEx link and agenda will be forwarded to individuals who register. Requests made after that date will be considered but might not be able to be fulfilled.

Sharla Draemel,
Attorney-Adviser, Executive Director of ACPIL, Office of Private International Law, Office of the Legal Adviser, Department of State.

[FR Doc. 2021-07210 Filed 4-7-21; 8:45 am]

BILLING CODE 4710-08-P